DEPARTMENT OF LABOR

Employment and Training Administration

[TA-W-57,838]

Texstyle, Inc.; Manchester, KY; Notice of Revised Determination on Reconsideration

On December 22, 2005, the Department of Labor issued a Notice of Affirmative Determination Regarding Application for Reconsideration applicable to the subject firm. The Notice will soon be published in the Federal Register.

During the initial investigation, the Department found that workers did not produce an article or support an affiliated domestic production facility during the relevant period.

During the reconsideration investigation, it was found that production of home furnishings occurred at the subject facility during the relevant period. The investigation also revealed that the subject facility closed in December 2005 and that subject company imports increased following the production shift abroad.

The August 16, 2005 petition, filed by the subject company, did not request Alternative Trade Adjustment Assistance (ATAA).

Conclusion

After careful review of the additional facts obtained on reconsideration, I conclude that a shift of production to China followed by increased imports of home furnishings contributed importantly to worker separations at the subject firm.

In accordance with the provisions of the Act, I make the following certification:

“All workers of TexStyle, Inc., Manchester, Kentucky, who became totally or partially separated from employment on or after August 16, 2004, through two years from the date of this certification, are eligible to apply for adjustment assistance under Section 223 of the Trade Act of 1974.”

Signed in Washington, DC, this 18th day of January 2006.
Elliott S. Kushner,
Certifying Officer, Division of Trade Adjustment Assistance.

[FR Doc. E6-1136 Filed 1-27-06; 8:45 am]

BILLING CODE 4510-30-P